COMMISSION ON CIVIL RIGHTS

Agenda and Notice of Public Meeting of the South Carolina Advisory Committee

Notice is hereby given, pursuant to the provisions of the rules and regulations of the U.S. Commission on Civil Rights, that a meeting of the South Carolina Advisory Committee to the Commission will convene at 2 p.m. and adjourn at 5 p.m. on April 25, 2002, at the South Carolina Human Affairs Commission, 2611 Forest Drive, Suite 200, Columbia, South Carolina 29240. The purpose of the meeting is to conduct new member orientation, to hear from the chairperson of the South Carolina Black Legislative Caucus and other speakers regarding Title VI, the United States Housing and Urban Development's Hope VI Project and other civil rights enforcement efforts in South Carolina.

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, March 25, 2002.
Ivy L. Davis,
Chief, Regional Programs Coordination Unit.

[FR Doc. 02-7550 Filed 3-28-02; 8:45 am]

BILLING CODE 6335-01-P